DEPARTMENT OF DEFENSE

Office of the Secretary

[Transmittal No. 23-0J]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0J.

Dated: October 2, 2024.
Aaron T. Siegel,
Alternate OSD Federal Register Liaison Officer, Department of Defense.

BILLING CODE 6001-FR-P

Transmittal No. 23-0J

REPORT OF ENHANCEMENT OR UPGRADE OF SENSITIVITY OF TECHNOLOGY OR CAPABILITY (SEC. 36(B)(5)(C), AECA)

(i) Purchaser: Government of India

(ii) Sec. 36(b)(1), AECA Transmittal No.: 19-02

Date: February 6, 2019

Implementing Agency: Air Force

Funding Source: National Funds

(iii) Description: On February 6, 2019, Congress was notified by congressional certification transmittal number 19-02 of the possible sale, under Section 36(b)(1) of the Arms Export Control Act, of two (2) Self-Protection Suites (SPS) consisting of AN/AAQ 24(V)N Large Aircraft Infrared Countermeasures (LAIRCM), ALQ-211(V)8 Advanced Integrated Defensive Electronic Warfare Suite (AIDEWS), and AN/ALE-47 Counter-Measures Dispensing System (CMDS) to protect two (2) Boeing 777 Head-of-State aircraft. The LAIRCM system consists of three (3) Guardian Laser Terminal Assemblies (GLTA), six (6) Missile Warning Sensors (MWS) for AN/AAQ-24 (V)N, one (1) LAIRCM System Processor Replacements (LSPR), one (1) Control Indicator Unit Replacement (CIUR), one (1) Smart Card Assembly and one (1) High-Capacity Card (HCC)/User Data Memory (UDM) card. Major Defense Equipment (MDE) consisted of twelve (12) Guardian Laser Transmitter Assemblies (GLTA) AN/AAQ-24(V)N (6 installed, 6 spares); eight (8) LAIRCM System Processor Replacements (LSPR) AN/AAQ-24(V)N (2 installed, 6 spares); twenty-three (23) Missile Warning Sensors (MWS) for AN/AAR-54 AAQ-24(V)N (12 installed, 11 spares); and five (5) AN/ALE-47 Counter-Measures Dispensing System (CMDS) (2 installed, 3 spares). Also included were Advanced Integrated Defensive Electronic Warfare Suites (AIDEWS), LAIRCM CIURs, Smart Card Assemblies, HCCs, and UDM cards, as well as: initial spares; consumables; repair and return support; support equipment; Self-Protection Suite (SPS) engineering design; integration; hardware integration; flight test and certification; selective availability anti-spoofing modules (SAASM); warranties, publications, and technical documentation; training and training equipment; field service representatives; U.S. Government and contractor engineering, technical and logistics support services; and other related elements of logistical and program support. The total estimated cost was $190 million. MDE constituted $26 million of this total.

This transmittal reports the addition of the following non-MDE items and services: impulse cartridges, chaff, and flares; software delivery and support; computer program identification number (CPIN) systems; major modifications, maintenance, and maintenance support; additional spares and repair and return support; additional test and integration equipment and support; facilities and construction support; and transportation support. No additional MDE is being reported; however, the total estimated MDE value will increase by $7 million to $33 million due to price increases. The estimated total case value will increase to $379 million.

(iv) Significance: This proposed sale will improve India's capability to meet and deter current and future threats by ensuring the sustainability of its SPS.

(v) Justification: This proposed sale will support the foreign policy and national security objectives of the U.S. by helping to strengthen the U.S.-Indian strategic relationship and to improve the security of a major defensive partner which continues to be an important force for political stability, peace, and economic progress in the Indo-Pacific and South Asia region.

(vi) Sensitivity of Technology: The Sensitivity of Technology Statement contained in the original notification applies to items reported here.

The highest level of classification of defense articles, components, and services included in this potential sale is SECRET.

(vii) Date Report Delivered to Congress: June 27, 2023.

[FR Doc. 2024-23181 Filed 10-7-24; 8:45 am]

BILLING CODE 6001-FR-C